OVERSEAS PRIVATE INVESTMENT CORPORATION

Sunshine Act Meetings; Board of Directors Meeting

TIME AND DATE: Thursday, March 21, 2013, 10 a.m. (Open Portion) 10:15 a.m. (Closed Portion).

PLACE: Offices of the Corporation, Twelfth Floor Board Room, 1100 New York Avenue NW., Washington, DC.

STATUS: Meeting Open to the Public from 10 a.m. to 10:15 a.m. Closed portion will commence at 10:15 a.m. (approx.).

MATTERS TO BE CONSIDERED:

1. President's Report.

2. Tribute—Kevin G. Nealer.

3. Confirmation—Katherine M. Gehl as Member, Board Audit Committee.

4. Confirmation—Rita Moss as Vice President, Human Resources.

5. Minutes of the Open Session of the December 6, 2012 Board of Directors Meeting.

FURTHER MATTERS TO BE CONSIDERED (Closed to the Public 10:15 a.m.):

1. Finance Project—Peru.

2. Finance Project—Pakistan.

3. Finance Project—Guatemala.

4. Finance Project—Latin America.

5. Minutes of the Closed Session of the December 6, 2012 Board of Directors Meeting.

6. Reports.

7. Pending Major Projects.

Written summaries of the projects to be presented will be posted on OPIC's web site on or about March 1, 2013.

CONTACT PERSON FOR INFORMATION: Information on the meeting may be obtained from Connie M. Downs at (202) 336-8438.

Dated: March 1, 2013.
Connie M. Downs,
Corporate Secretary, Overseas Private Investment Corporation.

[FR Doc. 2013-05182 Filed 3-1-13; 4:15 pm]

BILLING CODE 3210-01-P